NATIONAL FOUNDATION FOR THE ARTS AND THE HUMANITIES

National Endowment for the Arts

President's Committee on the Arts and the Humanities: Meeting XLVIII

Pursuant to Section 10(a)(2) of the Federal Advisory Committee Act (Public Law 92-463), as amended, notice is hereby given that a meeting of the President's Committee on the Arts and the Humanities will be held on April 28, 2000 from 9:00 a.m. to approximately 12:30 p.m. The meeting will be held at the State House Convention center, Little Rock, Arkansas.

The Committee meeting will begin at 9 a.m. with opening remarks by Chairman Dr. John Brademas and Executive Director's remarks from Harriet Mayor Fulbright. This will be followed by a special presentation on the “State of the Arts & Humanities in Arkansas.” The Committee will hear presentations from John W. Roberts, Deputy Chairman of the National Endowments for the Humanities, and Lee Kessler, Director, Federal Partnerships for the National Endowment for the Arts, and Mamie Bittner, Director of Public and Legislative Affairs for the Institute of Museum & Library Services. There will also be Task Force Reports on Ethnic Diversity (presented by Peggy Cooper Cafritz), “Tutu & Franklin: A Journey Towards Peace” (presented by Renee Poussaint) and Education (presented by Rich Gurin).

The President's Committee on the Arts and the Humanities was created by Executive Order in 1982 to advise the President, the two Endowments, and the Institute of Museum and Library Services on measures to encourage private sector support for the nation's cultural institutions and to promote public understanding of the arts and the humanities.

If, in the course of discussion, it becomes necessary for the Committee to discuss non-public commercial or financial information of intrinsic value, the Committee will go into closed session pursuant to subsection (c)(4) of the Government in the Sunshine Act, 5 U.S.C. 552b.

Any interested persons may attend as observers, on a space available basis, but seating is limited. Therefore, for this meeting, individuals wishing to attend must contact Georgianna Paul of the President's Committee in advance at (202) 682-5409 or write to the Committee at 1100 Pennsylvania Avenue, NW, Suite 526, Washington, DC 20506. Further information with reference to this meeting can also be obtained from Ms. Paul.

If you need special accommodations due to a disability, please contact Ms. Paul through the Office of AccessAbility, National Endowment for the Arts, 1100 Pennsylvania Avenue, NW, Washington, DC 20506, 202/682-5532, TDY-TDD 202/682-5496.

Dated: April 18, 2000.
Kathy Plowitz-Worden,
Panel Coordinator, Panel Operations, National Endowment for the Arts.

[FR Doc. 00-10129 Filed 4-20-00; 8:45 am]

BILLING CODE 7537-01-M